DEPARTMENT OF ENERGY

Federal Energy Regulatory Commission

Combined Notice of Filings

Take notice that the Commission has received the following Natural Gas Pipeline Rate and Refund Report filings:

Filings Instituting Proceedings

Docket Numbers: RP14-1083-000.

Applicants: Texas Gas Transmission, LLC.

Description: eTariff filing per 154.206: Motion to Place Tariff Record into Effect 4-1-2015 to be effective 4/1/2015.

Filed Date: 3/27/15.

Accession Number: 20150327-5071.

Comments Due: 5 p.m. ET 4/8/15.

Docket Numbers: RP15-695-000.

Applicants: Cameron Interstate Pipeline, LLC.

Description: Compliance filing per 154.203: Cameron Interstate Pipeline Order No. 801 Compliance Filing to be effective 4/1/2015.

Filed Date: 3/26/15.

Accession Number: 20150326-5074.

Comments Due: 5 p.m. ET 4/7/15.

Docket Numbers: RP15-696-000.

Applicants: LA Storage, LLC.

Description: Compliance filing per 154.203: LA Storage FERC Order No. 801 Compliance Filing to be effective 4/1/2015.

Filed Date: 3/26/15.

Accession Number: 20150326-5080.

Comments Due: 5 p.m. ET 4/7/15.

Docket Numbers: RP15-697-000.

Applicants: Mississippi Hub, LLC.

Description: Compliance filing per 154.203: Mississippi Hub Order No. 801 Compliance Filing to be effective 4/1/2015.

Filed Date: 3/26/15.

Accession Number: 20150326-5082.

Comments Due: 5 p.m. ET 4/7/15.

Docket Numbers: RP15-698-000.

Applicants: Pine Needle LNG Company, LLC.

Description: Section 4(d) rate filing per 154.403(d)(2): 2015 Annual Fuel and Electric Power Tracker Filing to be effective 5/1/2015.

Filed Date: 3/26/15.

Accession Number: 20150326-5086.

Comments Due: 5 p.m. ET 4/7/15.

Docket Numbers: RP15-699-000.

Applicants: Gulf South Pipeline Company, LP.

Description: Section 4(d) rate filing per 154.204: Amendment to Neg Rate Agmt (EOG 34687-27) to be effective 3/26/2015.

Filed Date: 3/26/15.

Accession Number: 20150326-5126.

Comments Due: 5 p.m. ET 4/7/15.

Docket Numbers: RP15-700-000.

Applicants: Elba Express Company, L.L.C.

Description: Elba Express Company, L.L.C. submits 2015 Annual Interruptible Revenue Crediting Report.

Filed Date: 3/26/15.

Accession Number: 20150326-5181.

Comments Due: 5 p.m. ET 4/7/15.

Docket Numbers: RP15-701-000.

Applicants: Florida Gas Transmission Company, LLC.

Description: Compliance filing per 154.203: Map Filing in Compliance with Order No. 801 to be effective 4/1/2015.

Filed Date: 3/27/15.

Accession Number: 20150327-5065.

Comments Due: 5 p.m. ET 4/8/15.

Docket Numbers: RP15-702-000.

Applicants: Panhandle Eastern Pipe Line Company, LP.

Description: Compliance filing per 154.203: Map Filing in Compliance with Order No. 801 to be effective 4/1/2015.

Filed Date: 3/27/15.

Accession Number: 20150327-5066.

Comments Due: 5 p.m. ET 4/8/15.

Docket Numbers: RP15-703-000.

Applicants: Trunkline Gas Company, LLC.

Description: Compliance filing per 154.203: Map Filing in Compliance with Order No. 801 to be effective 4/1/2015.

Filed Date: 3/27/15.

Accession Number: 20150327-5069.

Comments Due: 5 p.m. ET 4/8/15.

Docket Numbers: RP15-704-000.

Applicants: Southwest Gas Storage Company.

Description: Compliance filing per 154.203: Map Filing in Compliance with Order No. 801 to be effective 4/1/2015.

Filed Date: 3/27/15.

Accession Number: 20150327-5070.

Comments Due: 5 p.m. ET 4/8/15.

Docket Numbers: RP15-705-000.

Applicants: Sea Robin Pipeline Company, LLC.

Description: Compliance filing per 154.203: Map Filing in Compliance with Order No. 801 to be effective 4/1/2015.

Filed Date: 3/27/15.

Accession Number: 20150327-5072.

Comments Due: 5 p.m. ET 4/8/15.

Docket Numbers: RP15-706-000.

Applicants: Lake Charles LNG Company, LLC.

Description: Compliance filing per 154.203: Map Filing in Compliance with Order No. 801 to be effective 4/1/2015.

Filed Date: 3/27/15.

Accession Number: 20150327-5073.

Comments Due: 5 p.m. ET 4/8/15.

Docket Numbers: RP15-707-000.

Applicants: Southern Star Central Gas Pipeline, Inc.

Description: Compliance filing per 154.203: Maps Filing in Compliance with Order 801 to be effective 5/1/2015.

Filed Date: 3/27/15.

Accession Number: 20150327-5087.

Comments Due: 5 p.m. ET 4/8/15.

Docket Numbers: RP15-708-000.

Applicants: Empire Pipeline, Inc.

Description: Compliance filing per 154.203: Order No. 801 CF (Map Link) to be effective 5/1/2015.

Filed Date: 3/27/15.

Accession Number: 20150327-5094.

Comments Due: 5 p.m. ET 4/8/15.

Docket Numbers: RP15-709-000.

Applicants: Texas Eastern Transmission, LP.

Description: Section 4(d) rate filing per 154.204: Negotiated Rates—Chevron Apr2015 TEAM2014 releases to be effective 4/1/2015.

Filed Date: 3/27/15.

Accession Number: 20150327-5107.

Comments Due: 5 p.m. ET 4/8/15.

Docket Numbers: RP15-710-000.

Applicants: Northern Border Pipeline Company.

Description: Section 4(d) rate filing per 154.403(d)(2): Compressor Usage Surcharge 2015 to be effective 5/1/2015.

Filed Date: 3/27/15.

Accession Number: 20150327-5131.

Comments Due: 5 p.m. ET 4/8/15.

Docket Numbers: RP15-711-000.

Applicants: NGO Transmission, Inc.

Description: Compliance filing per 154.203: NGO Transmission Order No. 801 Compliance Filing to be effective 4/1/2015.

Filed Date: 3/27/15.

Accession Number: 20150327-5134.

Comments Due: 5 p.m. ET 4/8/15.

Docket Numbers: RP15-712-000.

Applicants: Paiute Pipeline Company.

Description: Compliance filing per 154.203: RM14-21 Compliance Map Filing to be effective 4/1/2015.

Filed Date: 3/27/15.

Accession Number: 20150327-5166.

Comments Due: 5 p.m. ET 4/8/15.

Docket Numbers: RP15-713-000.

Applicants: Bison Pipeline LLC.

Description: Bison Pipeline LLC submits 2015 Company Use Gas Annual Report.

Filed Date: 3/27/15.

Accession Number: 20150327-5181.

Comments Due: 5 p.m. ET 4/8/15.

Docket Numbers: RP15-714-000.

Applicants: Equitrans, L.P.

Description: Section 4(d) rate filing per 154.204: Negotiated Capacity Release Agreements—3/27/2015 to be effective 3/27/2015.

Filed Date: 3/27/15.

Accession Number: 20150327-5193.

Comments Due: 5 p.m. ET 4/8/15.

Docket Numbers: RP15-715-000.

Applicants: Transcontinental Gas Pipe Line Company.

Description: Section 4(d) rate filing per 154.204: Non-Conforming Agreement—Woodbridge/CPV to be effective 4/1/2015.

Filed Date: 3/27/15.

Accession Number: 20150327-5241.

Comments Due: 5 p.m. ET 4/8/15.

Docket Numbers: RP15-716-000.

Applicants: Enable Gas Transmission, LLC.

Description: Compliance filing per 154.203: Order No. 801 Compliance Filing—System Map to be effective 4/1/2015.

Filed Date: 3/27/15.

Accession Number: 20150327-5258.

Comments Due: 5 p.m. ET 4/8/15.

Docket Numbers: RP15-717-000.

Applicants: Enable Mississippi River Transmission, L.

Description: Compliance filing per 154.203: Order No. 801 Compliance Filing—System Map to be effective 4/1/2015.

Filed Date: 3/27/15.

Accession Number: 20150327-5255.

Comments Due: 5 p.m. ET 4/8/15.

Docket Numbers: RP15-718-000.

Applicants: Transcontinental Gas Pipe Line Company.

Description: Section 4(d) rate filing per 154.204: Update List of Non-Coforming Service Agreements (Woodbridge/CPV) to be effective 4/1/2015.

Filed Date: 3/27/15.

Accession Number: 20150327-5310.

Comments Due: 5 p.m. ET 4/8/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-681-001.

Applicants: MIGC LLC.

Description: Compliance filing per 154.203: Amendment to Docket No. RP15-681-000 to be effective 4/24/2015.

Filed Date: 3/27/15.

Accession Number: 20150327-5336.

Comments Due: 5 p.m. ET 4/8/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2015.
Nathaniel J. Davis, Sr.,
Deputy Secretary.

[FR Doc. 2015-07931 Filed 4-6-15; 8:45 am]

BILLING CODE CODE 6717-01-P